DEPARTMENT OF THE INTERIOR

Fish and Wildlife Service

[FWS-R1-ES-2009-N0096; 10120-1113-0000-C2]

Endangered and Threatened Wildlife and Plants; Revised Recovery Plan for the Laysan Duck (Anas laysanensis)

AGENCY: Fish and Wildlife Service, Interior.

ACTION: Notice of document availability; revised recovery plan.

SUMMARY: We, the U.S. Fish and Wildlife Service, announce the availability of the Revised Recovery Plan for the Laysan Duck (Anas laysanensis). This species, found only on Laysan Island and Midway Atoll in the northwestern Hawaiian Islands, was federally listed as endangered in 1967.

ADDRESSES: An electronic copy of the recovery plan is available at http://endangered.fws.gov/recovery/index.html#plans. The recovery plan is also available by request from the U.S. Fish and Wildlife Service, Pacific Islands Fish and Wildlife Office, 300 Ala Moana Boulevard, Room 3-122, Box 50088, Honolulu, HI 96850 (phone: 808/792-9400).

FOR FURTHER INFORMATION CONTACT: Holly Freifeld, Fish and Wildlife Biologist, at the above Pacific Islands Fish and Wildlife Office address and phone number.

SUPPLEMENTARY INFORMATION:

Background

Recovery of endangered or threatened animals and plants is a primary goal of the Endangered Species Act (Act) (16 U.S.C. 1531 et seq.) and our endangered species program. Recovery means improvement of the status of listed species to the point at which listing is no longer required under the criteria in section 4(a)(1) of the Act.

The Act requires the development of recovery plans for endangered or threatened species unless such a plan would not promote the conservation of the species. Recovery plans help guide the recovery effort by describing actions considered necessary for the conservation of the species, and estimating time and cost for implementing the measures needed for recovery. We originally completed a recovery plan for the Laysan duck in 1982, but the recommendations contained in that plan are outdated given the species' current status.

Section 4(f) of the Act requires that public notice and an opportunity for public review and comment be provided during recovery plan development. In fulfillment of this requirement, we made the Draft Revised Recovery Plan for the Laysan Duck (Anas laysanensis) available for public comment from November 4, 2004, to January 3, 2005 (69 FR 64317; November 4, 2004). Information provided during the public comment period was considered in our preparation of this recovery plan, and is summarized in an appendix to the plan. We welcome continuing public comment on this recovery plan, and we will consider all substantive comments on an ongoing basis to inform the implementation of recovery activities and future updates to the recovery plan.

The Laysan duck is endemic to the Hawaiian Islands, where subfossil remains of the species have been found throughout the archipelago. This species has been listed as an endangered species by the United States since the first Federal listing of endangered species in 1967 (32 FR 4001; March 11, 1967). It is also listed as endangered by the State of Hawaii. Currently, the Laysan duck occurs in only two locations: the single remaining natural population on Laysan Island; and at Midway Atoll, where a population has become established through two translocations conducted in 2004 and 2005. Laysan and Midway both are part of the National Wildlife Refuge System and the Papahanaumokuakea Marine National Monument.

The Laysan duck was extirpated from the main Hawaiian Islands in prehistory, likely because of a combination of predation by introduced mammals and habitat loss and degradation. In recorded history, the Laysan duck occurred naturally on Laysan Island and on neighboring Lisianski. The species was lost from Lisianski during the 19th century, following the accidental introduction of mice and near-devegetation of the island. Similar habitat destruction took place on Laysan in the early 20th century, when rabbits were introduced to that island. The Laysan duck population dwindled to as few as a dozen individuals, and several other bird species endemic to the island became extinct. Although the duck population on Laysan eventually recovered to several hundred individuals, and the island is now substantially vegetated, the loss of some freshwater seeps and the slow infilling of the hypersaline lake in the island's interior are enduring consequences of the island's devegetation a century ago and continued erosion today.

Forty-two fledged juvenile Laysan ducks were translocated to Midway Atoll during 2004 and 2005, following intensive habitat restoration and wetland creation in the atoll. Subsequently, the duck population at Midway Atoll has grown rapidly and currently comprises 200 to 300 individuals despite mortality from an outbreak of avian botulism in 2008.

This revised recovery plan replaces the original recovery plan for the Laysan duck, which was published in 1982. The strategy presented in this revised recovery plan includes (1) management to address threats to the species where it occurs now (Laysan Island and Midway Atoll) and (2) improvement of the species' distribution and total population size through protection and enhancement of suitable habitat in the Northwestern and Main Hawaiian Islands and reduction or elimination of threats to allow reestablishment of additional wild populations. The recovery actions are designed to assess and address threats to the Laysan duck; create, monitor, and manage new self-sustaining populations; and fill critical gaps in our scientific knowledge of the species. The recovery goal is to downlist the Laysan duck to threatened status and eventually delist the species (remove it from the List of Endangered and Threatened Wildlife and Plants).

Authority: The authority for this action is section 4(f) of the Endangered Species Act, 16 U.S.C. 1533(f).

Dated: July 7, 2009.
David J. Wesley,
Acting Regional Director, Region 1, U.S. Fish and Wildlife Service.

[FR Doc. E9-22829 Filed 9-21-09; 8:45 am]

BILLING CODE 4310-55-P